DEPARTMENT OF ENERGY

Federal Energy Regulatory Commission

[Docket No. RP00-281-000]

Trailblazer Pipeline Company; Notice of Tariff Filing

May 16, 2000.

Take notice that on May 11, 2000, Trailblazer, Pipeline Company (Trailblazer) tendered for filing to be a part of its FERC Gas Tariff, Sixth Revised Volume No. 1, the tariff sheets listed on Appendix A to the filing, to be effective June 1, 2000.

Trailblazer states that these tariff sheets are being filed in compliance with the Commission's Order No. 587-G issued April 16, 1998 in Docket No. RM96-1-008, which order relates to interstate pipelines' business transactions using Internet communication as well as to various issues relating to the standardization of these business communications using the Internet.

Trailblazer requested any waivers which may be required for the tendered tariff sheets to become effective June 1, 2000, consistent with Order Nos. 587-G and 587-I.

Trailblazer states that copies of the filing have been mailed to its customers, interested state commissions and all parties set out on the Commission's official service list in Docket No. RM96-1.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-12722 Filed 5-19-00; 8:45 am]

BILLING CODE 6717-01-M